DEPARTMENT OF COMMERCE

National Oceanic and Atmospheric Administration

Science Advisory Board

AGENCY: National Oceanic and Atmospheric Administration (NOAA), Department of Commerce (DOC).

ACTION: Notice of public meetings.

SUMMARY: This notice sets forth the schedule and proposed agenda for two meetings of the Science Advisory Board (SAB). The members will discuss issues outlined in the section on Matters to be considered.

DATES: There are two meetings: The first meeting is scheduled for April 30, 2021 from 4:00 p.m. to 5:00 p.m. Eastern Daylight Time (EDT). The second meeting is scheduled for July 20, 2021, from 1:00 p.m. to 5:00 p.m. Eastern Daylight Time (EDT) and July 22, 2021, from 1:00 p.m. to 5:00 p.m. Eastern Daylight Time (EDT). These times and the agenda topics described below are subject to change. For the latest agenda please refer to the SAB website: http://sab.noaa.gov/SABMeetings.aspx.

ADDRESSES: These are virtual meetings. The webinar registration links for the April 30, 2021 and July 20 and July 22, 2021 meetings may be found on the website at http://sab.noaa.gov/SABMeetings.aspx.

FOR FURTHER INFORMATION CONTACT: Dr. Cynthia Decker, Executive Director, SSMC3, Room 11230, 1315 East-West Hwy., Silver Spring, MD 20910; Phone Number: 301-734-1156; Email: Cynthia.Decker@noaa.gov; or visit the SAB website at http://sab.noaa.gov/SABMeetings.aspx.

SUPPLEMENTARY INFORMATION: The NOAA Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Status: The April 30, 2021 meeting will be open to public participation with a 5-minute public comment period at 4:55 p.m. EDT. The July 20 and 22, 2021 meeting will be open to public participation with a 15-minute public comment period at 4:45 p.m. EDT on July 20. The SAB expects that public statements presented at its meetings will not be repetitive of previously submitted verbal or written statements. In general, each individual or group making a verbal presentation will be limited to a total time of three minutes. Written comments for the April 30, 2021 meeting should be received by in the SAB Executive Director's Office by April 23, 2021 to provide sufficient time for SAB review. Written comments for the July 20 and 22, 2021 meeting should be received in the SAB Executive Director's Office by July 1, 2021 to provide sufficient time for SAB review. Written comments received by the SAB Executive Director after these dates will be distributed to the SAB, but may not be reviewed prior to the meeting date.

Special Accommodations: This meeting is physically accessible to people with disabilities. Requests for special accommodations may be directed to the Executive Director no later than 12 p.m. on April 23, 2021 for the April 30, 2021 meeting and by July 1, 2021 for the July 20 and 22, 2021 meeting.

Matters to be Considered: The meeting on April 30, 2021 will consider the Environmental Information Services Working Group's Statement on Ongoing National Weather Service Data Dissemination Challenges. The meeting on July 20 and 22, 2021 will include (1) NOAA updates; (2) Update from the Tsunami Science and Technology Advisory Panel; (3) Review of the Cooperative Institute for Great Lakes Research Review Report; (4) SAB Priorities for Weather Research Study update; (5) NOAA Response to the SAB review of the NOAA Precipitation Prediction Grand Challenge Plan; and (6) Environmental Information Services Working Group's report to Congress. The full agendas will be published on the SAB website. Meeting materials, including work products, will also be available on the SAB website: http://sab.noaa.gov/SABMeetings.aspx.

Dated: April 19, 2021.
David Holst,
Director Chief Financial Officer/CAO, Office of Oceanic and Atmospheric Research, National Oceanic and Atmospheric Administration.

[FR Doc. 2021-08514 Filed 4-22-21; 8:45 am]

BILLING CODE 3510-KD-P